OFFICE OF PERSONNEL MANAGEMENT

Excepted Service

AGENCY: Office of Personnel Management (OPM).

ACTION: Notice.

SUMMARY: This notice identifies Schedule A, B, and C appointing authorities applicable to a single agency that were established or revoked from April 1, 2021 to April 30, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during April 2021.

Schedule B

No Schedule B Authorities to report during April 2021.

Schedule C

The following Schedule C appointing authorities were approved during April 2021.

Agency name | Organization name | Position title | Authorization No. | Effective date
DEPARTMENT OF AGRICULTURE | Office of Communications | Press Secretary | DA210101 | 04/23/2021
DEPARTMENT OF COMMERCE | Office of Business Liaison | Deputy Director | DC210102 | 04/09/2021
| Office of the Assistant Secretary for Economic Development | Chief of Staff for Economic Development | DC210103 | 04/02/2021
| Office of the Chief of Staff | Special Assistant to the Chief of Staff | DC210104 | 04/09/2021
|  | Special Assistant | DC210109 | 04/26/2021
| Office of the General Counsel | Deputy General Counsel for Strategic Initiatives | DC210100 | 04/02/2021
COMMISSION ON CIVIL RIGHTS | Commission on Civil Rights | Special Assistant to the Commissioner | CC210001 | 04/09/2021
DEPARTMENT OF DEFENSE | Office of the Secretary of Defense | Director, Travel Operations | DD210219 | 04/02/2021
| Office of the Under Secretary of Defense (Policy) | Special Assistant | DD210222 | 04/09/2021
| Washington Headquarters Services | Senior Director for Press and National Security Spokesperson | DD210134 | 04/15/2021
|  | Senior Director for Technology and National Security | DD210198 | 04/15/2021
DEPARTMENT OF EDUCATION | Office for Civil Rights | Confidential Assistant | DB210086 | 04/16/2021
| Office of Elementary and Secondary Education | Confidential Assistant | DB210092 | 04/27/2021
| Office of Legislation and Congressional Affairs | Confidential Assistant | DB210088 | 04/16/2021
|  | Special Assistant (2) | DB210089 DB210094 | 04/28/2021 04/29/2021
| Office of Planning, Evaluation and Policy Development | Confidential Assistant | DB210087 | 04/16/2021
| Office of the Secretary | Senior Advisor | DB210081 | 04/02/2021
|  | Special Assistant (2) | DB210082 DB210083 | 04/13/2021 04/13/2021
|  | Deputy Director of Scheduling | DB210093 | 04/28/2021
| Office of the Under Secretary | Confidential Assistant | DB210084 | 04/16/2021
|  | Special Assistant | DB210085 | 04/16/2021
DEPARTMENT OF ENERGY | Office of the Assistant Secretary for Congressional and Intergovernmental Affairs | Deputy Assistant Secretary for Intergovernmental Affairs | DE210098 | 04/23/2021
| Office of Public Affairs | Deputy Press Secretary | DE210099 | 04/27/2021
ENVIRONMENTAL PROTECTION AGENCY | Office of the Executive Secretariat | Director, Office of the Executive Secretariat | EP210087 | 04/27/2021
| Office of the Administrator | Deputy Director for Scheduling and Advance | EP210088 | 04/27/2021
FEDERAL ENERGY REGULATORY COMMISSION | Office of the Commissioner | Confidential Assistant Attorney Advisor | DR210005 DR210006 | 04/02/2021 04/07/2021
DEPARTMENT OF HEALTH AND HUMAN SERVICES | Office of Administration for Children and Families | Senior Advisor | DH210158 | 04/05/2021
| Centers for Medicare and Medicaid Services | Senior Advisor | DH210153 | 04/01/2021
| Office of Intergovernmental and External Affairs | Director of External Affairs | DH210157 | 04/08/2021
| Office of the Assistant Secretary for Health | Senior Advisor for Health Equity and Climate (2) | DH210159 DH210161 | 04/05/2021 04/08/2021
| Office of the Assistant Secretary for Public Affairs | Director of Digital Engagement | DH210160 | 04/05/2021
| Office of the Secretary | Special Assistant | DH210162 | 04/09/2021
DEPARTMENT OF HOMELAND SECURITY | Federal Emergency Management Agency | Legislative Correspondent | DM210292 | 04/27/2021
| Office of Partnership and Engagement | Intergovernmental Affairs Coordinator | DM210260 | 04/05/2021
| Office of Public Affairs | Assistant Press Secretary (2) | DM210274 DM210272 | 04/05/2021 04/13/2021
|  | Deputy Press Secretary | DM210270 | 04/05/2021
|  | Director of Strategic Engagement | DM210226 | 04/12/2021
|  | Social Media Director | DM210295 | 04/23/2021
| Office of Strategy, Policy, and Plans | Special Assistant to the Chief of Staff (2) | DM210273 DM210312 | 04/05/2021 04/23/2021
| Office of the Secretary | Counselor to the Chief of Staff | DM210267 | 04/02/2021
|  | Deputy Director of Scheduling and Advance | DM210282 | 04/09/2021
|  | Counselor (Immigration) | DM210228 | 04/12/2021
| Office of the United States Citizenship and Immigration Services | Special Assistant to the Chief of Staff | DM210262 | 04/09/2021
DEPARTMENT OF HOUSING AND URBAN DEVELOPMENT | Office of Congressional and Intergovernmental Relations | Deputy Assistant Secretary for Intergovernmental Relations | DU210058 | 04/16/2021
|  | Congressional Relations Specialist | DU210059 | 04/16/2021
|  | Senior Advisor for Intergovernmental Relations | DU210064 | 04/27/2021
| Office of Faith-Based and Community Initiatives | Director of Faith Based | DU210065 | 04/27/2021
| Office of the Administration | Director of Executive Scheduling and Operations | DU210057 | 04/16/2021
|  | Director of Scheduling | DU210063 | 04/23/2021
| Office of the Secretary | Briefing Book Coordinator | DU210061 | 04/23/2021
|  | Special Assistant for Housing and Services | DU210062 | 04/23/2021
DEPARTMENT OF THE INTERIOR | Office of the Assistant Secretary—Indian Affairs | Senior Advisor to the Assistant Secretary—Indian Affairs | DI210114 | 04/20/2021
| Bureau of International Labor Affairs | Chief of Staff | DL210080 | 04/13/2021
| Secretary's Immediate Office | Advisor to the Deputy Secretary of the Interior | DI210113 | 04/20/2021
|  | Deputy Director, Intergovernmental Affairs | DI210119 | 04/20/2021
DEPARTMENT OF LABOR | Secretary's Immediate Office | Advisor | DI210120 | 4/22/2021
| Office of Mine Safety and Health Administration | Chief of Staff | DL210083 | 04/14/2021
| Office of Employment and Training Administration | Senior Policy Advisor | DL210082 | 04/28/2021
OFFICE OF MANAGEMENT AND BUDGET | Office of Communications | Deputy Associate Director for Communications | BO210064 | 04/12/2021
OFFICE OF PERSONNEL MANAGEMENT | Office of the Director | Senior Advisor to the Chief of Staff | PM210053 | 04/19/2021
UNITED STATES INTERNATIONAL DEVELOPMENT FINANCE CORPORATION | Overseas Private Investment Corporation | Special Assistant, External Affairs | PQ210011 | 04/27/2021
SMALL BUSINESS ADMINISTRATION | Office of the Administrator | Deputy Chief of Staff (External) Senior Advisor | SB210026 SB210027 | 04/05/2021 04/16/2021
| Office of Communications and Public Liaison | Press Assistant | SB210028 | 04/23/2021
DEPARTMENT OF STATE | Bureau of African Affairs | Senior Advisor Deputy Assistant Secretary | DS210188 DS210211 | 04/16/2021 04/23/2021
| Bureau of Arms Control, Verification, and Compliance | Deputy Assistant Secretary | DS210214 | 04/27/2021
| Bureau of Democracy, Human Rights and Labor | Special Assistant Senior Advisor | DS210189 DS210213 | 04/16/2021 04/23/2021
| Bureau of East Asian and Pacific Affairs | Senior Advisor | DS210191 | 04/22/2021
| Bureau of Economic and Business Affairs | Senior Advisor | DS210212 | 04/23/2021
| Bureau of Energy Resources | Deputy Assistant Secretary | DS210192 | 04/16/2021
| Bureau of European and Eurasian Affairs | Senior Advisor | DS210193 | 04/16/2021
| Bureau of Global Public Affairs | Senior Advisor Deputy Assistant Secretary | DS210165 DS210174 | 04/08/2021 04/14/2021
|  | Supervisory Public Affairs Specialist | DS210183 | 04/14/2021
|  | Principal Deputy Spokesperson | DS210185 | 04/14/2021
|  | Public Affairs Specialist | DS210206 | 04/23/2021
| Bureau of International Narcotics and Law Enforcement Affairs | Senior Advisor | DS210176 | 04/12/2021
| Bureau of International Organizational Affairs | Senior Advisor | DS210177 | 04/12/2021
| Bureau of Legislative Affairs | Deputy Assistant Secretary (House) Deputy Assistant Secretary (Senate) | DS210195 DS210194 | 04/20/2021 04/22/2021
| Bureau of South and Central Asian Affairs | Senior Advisor | DS210181 | 04/12/2021
| Bureau of Western Hemisphere Affairs | Senior Advisor Deputy Assistant Secretary | DS210204 DS210205 | 04/23/2021 04/23/2021
| Office of Global Women's Issues | Senior Advisor Special Assistant | DS210196 DS210202 | 04/23/2021 04/23/2021
| Office of Policy Planning | Senior Advisor (3) | DS210180 DS210198 DS210199 | 04/12/2021 04/23/2021 04/28/2021
|  | Special Assistant | DS210197 | 04/23/2021
| Office of the Deputy Secretary | Senior Advisor | DS210186 | 04/19/2021
| Office of the Secretary | Staff Assistant | DS210208 | 04/23/2021
| Office of the Under Secretary for Arms Control and International Security Affairs | Senior Advisor | DS210200 | 04/20/2021
| Office of the Under Secretary for Economic Growth, Energy, and the Environment | Senior Advisor (2) | DS210190 DS210190 | 04/23/2021 04/23/2021
DEPARTMENT OF TRANSPORTATION | Office of the Deputy Secretary | Advisor to the Deputy Secretary Special Assistant | DT210068 DT210071 | 04/09/2021 04/23/2021
UNITED STATES INTERNATIONAL TRADE COMMISSION | Office of Commissioner Stayin | Staff Assistant (Legal) | TC210004 | 04/07/2021

The following Schedule C appointing authorities were revoked during April 2021.

Agency name | Organization name | Position title | Authorization No. | Vacate date
COMMODITY FUTURES TRADING COMMISSION | Commodity Futures Trading Commission | Legislative and Policy Analyst | CT200004 | 04/09/2021
DEPARTMENT OF STATE | Office of the Secretary | Advisor to the White House Liaison | DS210093 | 04/24/2021
|  | Deputy Assistant Secretary (3) | DS210090 DS210099 DS210082 | 04/10/2021 04/24/2021 04/24/2021
|  | Deputy Assistant Secretary (Human Rights) | DS210077 | 04/08/2021
|  | Deputy Assistant Secretary (Senate) | DS210110 | 04/24/2021
|  | Deputy Assistant Secretary (Strategic Messaging) | DS210098 | 04/24/2021
|  | Deputy Chief of Staff (Operations)(2) | DS210132 DS210138 | 04/24/2021 04/24/2021
|  | Deputy Chief of Staff for Policy | DS210103 | 04/24/2021
|  | Deputy Spokesperson | DS210087 | 04/25/2021
|  | Public Affairs Specialist | DS210050 | 04/24/2021
|  | Senior Advisor (12) | DS210123 | 04/10/2021
|  |  | DS210066 | 04/24/2021
|  |  | DS210067 | 04/24/2021
|  |  | DS210104 | 04/24/2021
|  |  | DS210052 | 04/24/2021
|  |  | DS210055 | 04/24/2021
|  |  | DS210042 | 04/24/2021
|  |  | DS210038 | 04/24/2021
|  |  | DS210083 | 04/24/2021
|  |  | DS210109 | 04/24/2021
|  |  | DS210069 | 04/24/2021
|  |  | DS210096 | 04/24/2021
|  | Senior Advisor (Strategy) | DS210072 | 04/24/2021
|  | Senior Policy Advisor | DS210105 | 04/24/2021
|  | Special Assistant (2) | DS210053 DS210049 | 04/24/2021 04/24/2021
|  | Special Envoy for Iran | DS210076 | 04/24/2021
|  | Staff Assistant | DS210081 | 04/24/2021
|  | Supervisory Public Affairs Specialist | DS210068 | 04/24/2021
DEPARTMENT OF THE INTERIOR | Secretary's Immediate Office | Deputy White House Liaison Senior Advisor to the Secretary | DI210095 DI210060 | 04/05/2021 04/24/2021
OFFICE OF PERSONNEL MANAGEMENT | Office of the Director | Senior Advisor to the Chief of Staff | PM210029 | 04/18/2021
OFFICE OF THE UNITED STATES TRADE REPRESENTATIVE | Office of Public and Media Affairs | Digital Media Director | TN210004 | 04/30/2021

(Authority: 5 U.S.C. 3301 and 3302; E.O. 10577, 3 CFR, 1954-1958 Comp., p. 218.)

Office of Personnel Management.
Alexys Stanley,
Regulatory Affairs Analyst.

[FR Doc. 2022-04617 Filed 3-3-22; 8:45 am]

BILLING CODE 6325-39-P